DEPARTMENT OF JUSTICE

Notice of Lodging Proposed Consent Decree

In accordance with Department Policy, 28 CFR 50.7, notice is hereby given that a proposed Consent Decree in United States v. Kenneth L. Mims and Leonard R. Cannon AKA Robby Cannon, Civil No. 2:07-cv-03624-PMD, was lodged with the United States District Court for the District of South Carolina on November 8, 2007.

This proposed Consent Decree concerns a complaint filed by the United States against Kenneth L. Mims and Leonard R. Cannon AKA Robby Cannon, pursuant to section 301(a) of the Clean Water Act, 33 U.S.C. 1311(a), to obtain injunctive relief and impose civil penalties against the Defendants for violating the Clean Water Act by discharging fill material without a permit into waters of the United States. The proposed Consent Decree resolves these allegations by requiring the Defendants to pay a civil penalty. In addition, Defendants have agreed to a restoration plan which includes removing the sediment material deposited by the unpermitted dredging.

The Department of Justice will accept written comments relating to this proposed Consent Decree for thirty (30) days from the date of publication of this Notice. Please address comments to Emery Clark, Assistant United States Attorney, United States Attorney's Office, Wachovia Building, Suite 500, 1441 Main Street, Columbia, South Carolina 29201, and refer to United States v. Kenneth L. Mims and Leonard R. Cannon AKA Robby Cannon, United States District Court for the District of South Carolina, Civil No. 2:07-cv-03624-PMD.

The proposed Consent Decree may be examined at the Clerk's Office, United States District Court for the District of South Carolina, 901 Richland Lane, Columbia, South Carolina. In addition, the proposed Consent Decree may be viewed at http://www.usdoj.gov/enrd/Consent_Decrees.html.

Stephen Samuels,
Assistant Chief, Environmental Defense Section, Environment & Natural Resources Division.

[FR Doc. 07-5690 Filed 11-15-07; 8:45 am]

BILLING CODE 4410-15-M